DEPARTMENT OF TRANSPORTATION

National Highway Traffic Safety Administration

[Docket No. NHTSA 2000-8459; Notice 1]

Continental General Tire, Inc., Receipt of Application for Decision of Inconsequential Noncompliance

Continental General Tire, Inc., (Continental) has determined that approximately 22,500 P235/75R15 Grabber AT OWL passenger car tires do not meet the labeling requirements mandated by Federal Motor Vehicle Safety Standard (FMVSS) No. 109, “New Pneumatic Tires.”

Pursuant to 49 U.S.C. 30118(d) and 30120(h), Continental has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

FMVSS No. 109 requires that each tire shall have permanently molded into or onto both sidewalls the actual number of plies in the sidewall, and the actual number of plies in the tread area if different. (S4.3(e)).

The noncompliance with S4.3(e) relates to the mold number. Mold numbers 33316 and 33317 ran for the production period of March 28, 1999 through August 25, 2000 with an incorrect sidewall stamping. The stamping at the rim line read: “Tread 5 plies—2 Steel + 2 Polyester +1 Nylon.” It should have read: Tread 4 Plies—2 Steel + 2 Polyester.

Continental states that the sidewalls of the tire have all the proper markings, except the subject plies, per 49 CFR Section 571.109 and that in all applications the tire service information is correct and no unsafe conditions would be created due to the noncompliance.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: (30 days after Publication Date).

(49 U.S.C. 301118, 301120; delegations of authority at 49 CFR 1.50 and 501.8)
Issued on: December 26, 2000.
Stephen R. Kratzke,
Associate Administrator for Safety Performance Standards.

[FR Doc. 00-33411 Filed 12-29-00; 8:45 am]

BILLING CODE 4910-59-P